DEPARTMENT OF TRANSPORTATION

Federal Aviation Administration

14 CFR Part 71

[Docket No. FAA-2025-0183; Airspace Docket No. 23-AAL-66]

RIN 2120-AA66

Modification of Class E Airspace; Petersburg James A. Johnson Airport, Petersburg, AK

AGENCY: Federal Aviation Administration (FAA), DOT.

ACTION: Final rule.

SUMMARY: This action modifies the Class E airspace extending upward from 700 feet above the surface at Petersburg James A. Johnson Airport; removes redundant Class E airspace; and makes administrative updates to the airport's legal description. This action supports the safety and management of instrument flight rules (IFR) operations at the airport.

DATES: Effective date 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website atwww.federalregister.gov.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Jeffrey Drasin, Federal Aviation Administration, Western Service Center, Operations Support Group, 2200 S 216th Street, Des Moines, WA 98198; telephone (206) 231-2248.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Class E airspace and updates the airport's legal description to support IFR operations at Petersburg James A. Johnson Airport, Petersburg, AK.

History

The FAA published a notice of proposed rulemaking for Docket No. FAA 2025-0183 in the Federal Register (90 FR 14223; March 31, 2025), proposing to modify the Class E airspace Petersburg James A. Johnson Airport, Petersburg, AK. Interested parties were invited to participate in this rulemaking effort by submitting written comments on the proposal to the FAA. No comments were received.

Differences From the NPRM

Subsequent to the publication of the NPRM, the FAA identified that the word “from” was inadvertently omitted from the end of the Class E airspace legal description regarding the northern airspace extension. Accordingly, this action corrects the text to read “extending from 1.7 miles”. This is a ministerial change that does not alter the airspace boundaries or operating requirements. Therefore, the FAA has determined that good cause exists for not recirculating the proposal for public comment.

Incorporation by Reference

Class E5 airspace designations are published in paragraph 6005 of FAA Order JO 7400.11, Airspace Designations and Reporting Points, which is incorporated by reference in 14 CFR 71.1 on an annual basis. These amendments will be published in the next update to FAA Order JO 7400.11. FAA Order JO 7400.11J, which lists Class A, B, C, D, and E airspace areas, air traffic service routes, and reporting points, is publicly available as listed in the ADDRESSES section of this document.

The Rule

This action amends 14 CFR part 71 by modifying the Class E airspace extending upward from 700 feet above the surface and updating the administrative portion of the legal description at Petersburg James A. Johnson Airport, AK.

While the existing airspace contains widespread Class E coverage over an approximate 75 by 25-mile area, only that airspace within 6.5 miles of the airport extends upward from 700 feet. This action expands that airspace to within 12.3 miles of the airport and adds a narrow segment that extends 16.2 miles north of the airport. These changes will appropriately contain arriving IFR operations below 1,500 feet above the surface and departing and missed approach IFR operations until reaching 1,200 feet above the surface.

Next, this proposal removes multiple segments of Class E airspace that extend upward from 1,200 feet above the surface to the north and southeast, 3,300 feet above the surface to the south, 4,200 feet above the surface to the south and southeast, and 5,700 feet above the surface to the northwest. These airspace areas are redundant given that the existing southeast E6 domestic airspace that blankets the region provides sufficient controlled airspace for aircraft to transition into and out of the terminal and en route environments.

Finally, administrative changes are made to lines two and three of the text header for the airport's legal description. The airport name in line two is incorrect and is changed to “Petersburg James A. Johnson Airport” to align with the FAA's database. Line three removes unnecessary descriptive references to the Fredericks Point nondirectional beacon, Petersburg localizer, and Level Island very high frequency omnidirectional range/distance measuring equipment.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 6005 Class E Airspace Areas Extending Upward From 700 Feet or More Above the Surface of the Earth.

* * * * *

AAL AK E5 Petersburg, AK [Amended]

Petersburg James A. Johnson Airport, AK

(Lat. 56°48′05″ N, long. 132°56′46″ W)

That airspace extending upward from 700 feet above the surface within the airport's 7.2-mile radius, between the 015° and 145° bearings extending from the 7.2-mile radius to the 9.6-mile radius, between the 145° and 277° bearings extending from the 7.2-mile radius to the 12.3-mile radius, and within .4 miles west and 1.7 miles east of the 005° bearing extending from the 7.2-mile radius to 16.2 miles north of the airport.

* * * * *

Issued in Des Moines, Washington, on June 30, 2025.
B.G. Chew,
Group Manager, Operations Support Group, Western Service Center.

[FR Doc. 2025-12430 Filed 7-2-25; 8:45 am]

BILLING CODE 4910-13-P